DEPARTMENT OF COMMERCE

International Trade Administration

[A-583-854]

Certain Steel Nails From Taiwan: Final Results of Antidumping Duty Administrative Review and Partial Rescission of Administrative Review; 2015-2016

AGENCY: Enforcement and Compliance, International Trade Administration, Department of Commerce.

SUMMARY: The Department of Commerce (Commerce) determines, based on the application of adverse facts available, that Bonuts Hardware Logistic Co., Ltd. (Bonuts), PT Enterprise, Inc./Pro-Team Coil Nail Enterprise, Inc. (PT/Pro-Team), and Unicatch Industrial Co. Ltd. (Unicatch) made sales of certain steel nails (nails) from Taiwan at prices below normal value during the period of review (POR) of May 20, 2015, through June 30, 2016.

DATES: Applicable February 13, 2018.

FOR FURTHER INFORMATION CONTACT: Scott Hoefke or Victoria Cho, AD/CVD Operations, Office VI, Enforcement and Compliance, International Trade Administration, Department of Commerce, 1401 Constitution Avenue NW, Washington, DC 20230; telephone: (202) 482-4947 or (202) 482-5075, respectively.

SUPPLEMENTARY INFORMATION:

Background

On August 7, 2017, Commerce published the Preliminary Results of this administrative review.¹ For the events that occurred since the Preliminary Results, see the Issues and Decision Memorandum.² These final results cover five companies.³ Commerce exercised its discretion to toll deadlines affected by the closure of the Federal Government from January 20 through 22, 2018. If the new deadline falls on a non-business day, in accordance with Commerce's practice, the deadline will become the next business day. The revised deadline for the final results of this review is now February 6, 2018.⁴ Commerce conducted this review in accordance with section 751(a) of the Tariff Act of 1930, as amended (the Act).

¹ See Certain Steel Nails from Taiwan: Preliminary Results of Antidumping Duty Administrative Review and Partial Rescission of Administrative Review; 2015-2016, 82 FR 36744 (August 7, 2017) (Preliminary Results), and accompanying Memorandum, “Decision Memorandum for Preliminary Results of Antidumping Duty Administrative Review: Certain Steel Nails from Taiwan; 2015-2016,” dated July 31, 2017 (Preliminary Decision Memorandum).

² See Memorandum, “Issues and Decision Memorandum for the Final Results of the 2015-2016 Administrative Review of the Antidumping Duty Order on Certain Steel Nails from Taiwan” (Issues and Decision Memorandum), dated concurrently with this notice and incorporated herein by reference.

³ The five companies consist of three mandatory respondents and two companies not individually examined.

⁴ See Memorandum, “Deadlines Affected by the Shutdown of the Federal Government” (Tolling Memorandum), dated January 23, 2018. All deadlines in this segment of the proceeding have been extended by 3 days.

Scope of the Order

The merchandise covered by this order is certain steel nails. The certain steel nails subject to the order are currently classifiable under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to these orders also may be classified under HTSUS subheadings 7907.00.60.00, 8206.00.00.00 or other HTSUS subheadings.

While the HTSUS subheadings are provided for convenience and customs purpose, the written description is dispositive.⁵

⁵ A full description of the scope of the order is contained in the Issues and Decision Memorandum.

Analysis of Comments Received

All issues raised in the case and rebuttal briefs filed by parties in this review are addressed in the Issues and Decision Memorandum, which is hereby adopted by this notice. A list of the issues which parties raised, and to which we responded in the Issues and Decision Memorandum, can be found at the Appendix to this notice. The Issues and Decision Memorandum is a public document and is on file electronically via Enforcement and Compliance's Antidumping and Countervailing Duty Centralized Electronic Service System (ACCESS). ACCESS is available to registered users at https://access.trade.gov and is available to all parties in the Central Records Unit, room B8024 of the main Department of Commerce building. In addition, a complete version of the Issues and Decision Memorandum can be accessed directly on the internet at http://enforcement.trade.gov/frn/index.html. The signed Issues and Decision Memorandum and the electronic version of the Issues and Decision Memorandum are identical in content.

Changes Since the Preliminary Results

Based on our analysis of the comments received, we made certain changes to the Preliminary Results. Specifically, Commerce is applying total adverse facts otherwise available for Unicatch for these final results, and, in addition, Commerce has made changes to the rate assigned to the non-examined companies. For a full discussion of these changes, see the Issues and Decision Memorandum.

Partial Rescission of Review

On December 12, 2016, Mid Continent Steel & Wire, Inc. (Mid Continent), a domestic producer and interested party, timely withdrew its review request for Yusen Logistics (Taiwan) Ltd.⁶ Pursuant to 19 CFR 351.213(d)(1), Commerce will rescind an administrative review, in whole or in part, if the party that requested the review withdraws its request within 90 days of the date of publication of the notice of initiation of the requested review.⁷ For a full description of the methodology and rationale underlying our conclusions, see the Issues and Decisions Memorandum.

⁶ See Petitioner's December 12, 2016, letter entitled, “Certain Nails from Taiwan, Withdrawal of Request for Administrative Review.”

⁷ We inadvertently omitted Yusen Logistics (Taiwan) Ltd. from the list of companies for which we rescinded this administrative review in the Preliminary Results.

Application of Facts Available and Adverse Facts Available

We continue to find that Bonuts. and PT/Pro-Team failed to cooperate to the best of their ability in responding to Commerce's requests for information. Furthermore, for these final results, we also find that Unicatch failed to cooperate to the best of its ability in responding to Commerce's requests for information. Thus, we find that the application of adverse facts available, pursuant to section 776(a)-(b) of the Act, is warranted with respect to Bonuts, PT/Pro-Team, and Unicatch. For a full description of the methodology and rationale underlying our conclusions, see Issues and Decision Memorandum.

Rate for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted average dumping margins established for exporters and producers individually investigated, excluding any zero or de minimis margins, and any margins determined entirely {on the basis of facts available}.” Section 735(c)(5)(B) of the Act also provides that, where all rates are zero, de minimis, or based entirely on facts available, we may use “any reasonable method” for assigning the rate to all other respondents.

In this review, the margins for all individually examined respondents were determined entirely on the basis of facts available. As discussed in further detail in the Issues and Decision Memorandum, we have determined under “any reasonable method” to apply to companies not selected for individual examination in this review the rate determined for all mandatory respondents. Accordingly, we assign to the non-selected companies the dumping margin of 78.17 percent.

Final Results of Review

Commerce determines that the following margins exist for the period May 20, 2015 through June 30, 2016:

Producer/exporter | Margin (percent)
Bonuts Hardware Logistic Co., Ltd ⁸ | 78.17
PT Enterprise, Inc./Pro-Team Coil Nail Enterprise, Inc | 78.17
Unicatch Industrial Co. Ltd | 78.17
Non-examined companies ⁹ | 78.17

Assessment

Pursuant to section 751(a)(2)(C) of the Act and 19 CFR 351.212(b), Commerce shall determine, and CBP shall assess, antidumping duties on all appropriate entries of subject merchandise in accordance with the final results of this review. Commerce intends to issue assessment instructions to CBP 15 days after the date of publication of the final results of this administrative review in the Federal Register. We will instruct CBP to apply an ad valorem assessment rate of 78.17 percent to all entries of subject merchandise during the POR which were produced and/or exported by the companies stated above.

⁸ Commerce initiated a review of Bonuts Hardware Logistic Co., Ltd., but has referred to the company as Bonuts Hardware Logistics Co., LLC and Bonuts Logistics LLC at different times during this segment of the proceeding, based on the company's submissions.

⁹ The non-examined companies are Hor Liang Industrial Corp. and Romp Coil Nails Industries Inc.

For the companies which were not selected for individual review, we will assign an assessment rate based on the methodology described in the “Rates for Non-Examined Companies” section, above.

Consistent with Commerce's assessment practice, for entries of subject merchandise during the POR produced by Bonuts, PT/Pro-Team, Unicatch, or the non-examined companies for which the producer did not know that its merchandise was destined for the United States, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

Cash Deposit Requirements

The following cash deposit requirements will be effective for all shipments of subject merchandise entered, or withdrawn from warehouse, for consumption on or after the publication date of the final results of this administrative review, as provided for by section 751(a)(2)(C) of the Act: (1) The cash deposit rates for the companies listed in these final results will be equal to the rates established in the final results of this review; (2) for merchandise exported by producers or exporters not covered in this review but covered in a prior segment of this proceeding, the cash deposit rate will continue to be the company-specific rate published for the most recently completed segment in which the company was reviewed; (3) if the exporter is not a firm covered in this review or the original less-than-fair-value (LTFV) investigation, but the producer is, the cash deposit rate will be the rate established for the most recently completed segment of this proceeding for the producer of the subject merchandise; and (4) the cash deposit rate for all other producers or exporters will continue to be 2.16 percent,¹¹ the all-others rate established in the LTFV investigation. These cash deposit requirements, when imposed, shall remain in effect until further notice.

¹¹ See Certain Steel Nails from Taiwan: Notice of Court Decision Not in Harmony with Final Determination in Less Than Fair Value Investigation and Notice of Amended Final Determination, 82 FR 55090, 55091 (November 20, 2017).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h).

Dated: February 6, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. List of Issues

III. Background

IV. Scope of the Order

V. Rate for Non-Examined Companies

VI. Partial Rescission of Administrative Review

VII. Discussion of the Issues

A. PT/Pro-Team Issue

Comment 1: Application of Adverse Facts Available to PT/Pro-Team

B. Unicatch Issues

Comment 2: Application of Adverse Facts Available to Unicatch

Comment 3: Other Cost Issues

Comment 4: Unicatch's U.S. Sales Data

Comment 5: Middleman Dumping for Unicatch

Comment 6: Constructed Value Profit and Selling Expenses

Comment 7: Correction of Clerical Errors

VIII. Recommendation

[FR Doc. 2018-02897 Filed 2-12-18; 8:45 am]

BILLING CODE 3510-DS-P